DEPARTMENT OF AGRICULTURE

Forest Service

Forest Counties Payments Committee Meeting

AGENCY: Forest Service, USDA.

ACTION: Notice.

SUMMARY: The Forest Counties Payments Committee will meet in Sparks, Nevada, April 15, 2005. The purpose of the meeting is to discuss Section 320 of the Interior and Related Agencies Appropriations Act of 2001.

DATES: The meeting will be held on April 15, 2005. The meeting will consist of a session from 9 a.m. until 12 p.m., which will be open to public participation, followed by a business session, open only to public attendance.

ADDRESSES: The meeting will be held at the John Ascuaga's Nugget Hotel, Rose B Meeting Room, 2nd floor, 1100 Nugget Avenue, Sparks, Nevada 89431.

Those who cannot be present may submit written responses to the questions, listed in the SUPPLEMENTARY INFORMATION section of this notice, to Randle G. Phillips, Executive Director, Forest Counties Payments Committee, PO Box 34718, Washington, DC 20043-4713, or electronically to the Committee's Web site at http://countypayments.gov/comments.html. Comments must be received by May 1, 2005, to be assured of consideration. Comments received after that date will be considered to the extent possible.

FOR FURTHER INFORMATION CONTACT: Randle G. Phillips, Executive Director, Forest Counties Payments Committee, at (202) 208-6574 or via e-mail at rphillips01@fs.fed.us.

SUPPLEMENTARY INFORMATION: Section 320 of the Interior and Related Agencies Appropriations Act of 2001 created the Forest Counties Payments Committee to make recommendations to Congress on a long-term solution for making Federal payments to eligible States and counties in which Federal lands are situated. The Committee will consider the impact on eligible States and counties of revenues from the historic multiple use of Federal lands; evaluate the economic, environmental, and social benefits which accrue to counties containing Federal lands; evaluate the expenditures by counties on activities occurring on Federal lands, which are Federal responsibilities; and monitor payments and implementation of The Secure Rural Schools and Community Self-Determination Act of 2000 (Pub. L. 106-393). In order to develop its recommendations to Congress, the Committee would like to hear from both elected officials and the general public. At the April 15 meeting in Sparks, Nevada, the Committee asks that respondents provide information that is responsive to the following questions:

1. Schools

Identify specific examples of expenditures for education resulting directly from payments received from Public Law 106-393 that would not have been possible without the funding from this Act. Specify whether these, or other education services, would be discontinued or reduced when the current Law expires in 2006 and, if other funding sources would be available to replace the funds currently provided by Public Law 106-393.

2. Roads

Identify examples of expenditures on roads from payments from Pub. L. 106-393 that would not have been possible without the funding from this Act. Specify whether these, or other transportation services, would be discontinued or reduced when the current Law expires in 2006, or if other funding sources would be available to replace them.

3. Resource Advisory Committees

Pursuant to the requirements of Pub. L. 106-393, a county, or similar local governing body, that receives $100,000 or more, must set aside between 15 and 20 percent of the total payment for Title II, Title III, or a combination of the two titles.

If your county received at least $100,000, please describe the reasons why your local governing body decided not to set aside money for Title II, public lands projects, and establish a resource advisory committee. Please describe any conditions or circumstances that would have caused your local governing body to set aside money in Title II, and establish a resource advisory committee.

4. Role of Resource Advisory Committees

The projects of resource advisory committees are determined by funds set aside by counties and agreed to by the members of the committee as described in their charter.

Based on the experience you have gained in working with resource advisory committees, do you believe the role of these committees could be expanded beyond their current responsibilities to address other management activities on public lands? If so, please provide examples. What advantages would be gained from such expansion?

5. Title III

There are currently six categories for which expenditures of Title III funds are permitted. These categories are: Search, rescue, and emergency services on Federal lands; community service work camps for Federal lands; easement purchases; forest related educational opportunities; fire prevention and county planning; and community forestry. Are there other categories you would like to see added to the list that would permit expenditures of these funds? Please provide your reasons.

6. Implementation of the Healthy Forests Restoration Act of 2003 (Pub. L. 108-148)

Please provide specific examples where funds from Title II, Title III, or a combination of both, have been used to accomplish the purposes of the Healthy Forests Restoration Act of 2003.

Dated: March 21, 2005.
Elizabeth Estill,
Deputy Chief, Programs, Legislation and Communication.

[FR Doc. 05-5930 Filed 3-24-05; 8:45 am]

BILLING CODE 3410-11-P